DEPARTMENT OF DEFENSE

Office of the Secretary

[Transmittal No. 19-71]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-71 with attached Policy Justification and Sensitivity of Technology.

Dated: March 10, 2020.
Aaron T. Siegel,
Alternate OSD Federal Register Liaison Officer, Department of Defense.

BILLING CODE 5001-06-P

BILLING CODE 5001-06-C

Transmittal No. 19-71

Notice of Proposed Issuance of Letter of Offer Pursuant to Section 36(b)(l) of the Arms Export Control Act, as amended

(i) Prospective Purchaser: Government of Tunisia

(ii) Total Estimated Value:

Major Defense Equipment * | $123.2 million
Other | $202.6 million
TOTAL | $325.8 million

(iii) Description and Quantity or Quantities of Articles or Services under Consideration for Purchase:

Major Defense Equipment (MDE):

Three hundred twelve (312) MAU-169 Computer Control Groups (CCG)

Three hundred twelve (312) MXU-1006/B Air Foil Groups (AFG)

Four hundred sixty-eight (468) MK81 250 LB GP Bombs

Eighteen (18) BDU-50s (MK-82 Filled Inert)

Sixty-six (66) MXU-650 C/B Air Foil Groups (AFG), GBU-12

Sixty (60) Guidance Section, Guided Bombs, MAU-209, GBU-10,12,16

Forty-eight (48) MK-82 5001b Bombs

Five hundred sixteen (516) FMU-152 A/B Fuzes

Eighteen (18) MAU-169H(D-2)/B Computer Control Groups

Three thousand two hundred ninety (3290) Advanced Precision Kill Weapon Systems (APKWS)

Non-Major Defense Equipment (MDE):

Also included are four (4) AT-6C Wolverine Light Attack Aircraft; two (2) Pratt & Whitney PT6A-68D 1600 SHP engines (spares); six (6) L-3 WESCAM MX-15D Multi-Spectral Targeting System; six (6) Machine Gun Caliber .50; Cartridge Actuated Device/Propellant Actuated Device (CAD/PAD); High Explosive Warhead; bomb components, repair and return of weapons, weapons training equipment, practice bombs, TTU-595 Test Set and spares, fin assemblies, rocket motors, training aids/devices/spare parts, aircraft spare parts, support equipment, clothing and textiles, publications and technical documentation, travel expenses, medical services, construction, aircraft ferry support, technical and logistical support services, major modifications/class IV support, personnel training and training equipment, U.S. Government and contractor program support, and other related elements of logistics and program support.

(iv) Military Department: Air Force (TU-D-SAC)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: February 25, 2020

* As defined in Section 47(6) of the Arms Export Control Act

POLICY JUSTIFICATION

Tunisia—AT-6 Light Attack Aircraft

The Government of Tunisia has requested to buy four (4) AT-6C Wolverine Light Attack Aircraft with supporting equipment, to include: three hundred twelve (312) MAU-169 Computer Control Groups (CCG); three hundred twelve (312) MXU-1006/B Air Foil Groups (AFG); four hundred sixty-eight (468) MK81 250 LB GP bombs; eighteen (18) BDU-50s (MK-82 Filled Inert); sixty-six (66) MXU-650 C/B Air Foil Groups (AFG), GBU-12; sixty (60) Guidance Section, guided bombs, MAU-209, GBU-10,12,16; forty-eight (48) MK-82 500lb bombs; five hundred sixteen (516) FMU-152 A/B fuzes; eighteen (18) MAU-169H(D-2)/B Computer Control Groups; and three thousand two hundred ninety (3,290) Advanced Precision Kill Weapon Systems (APKWS); two (2) Pratt & Whitney PT6A-68D 1600 SHP engines (spares); six (6) L-3 WESCAM MX-15D Multi-Spectral Targeting System; six (6) Machine Gun Caliber .50; Cartridge Actuated Device/Propellant Actuated Device (CAD/PAD); High Explosive Warhead; bomb components, repair and return of weapons, weapons training equipment, practice bombs, TTU-595 Test Set and spares, fin assemblies, rocket motors, training aids/devices/spare parts, aircraft spare parts, support equipment, clothing and textiles, publications and technical documentation, travel expenses, medical services, construction, aircraft ferry support, technical and logistical support services, major modifications/class IV support, personnel training and training equipment, U.S. Government and contractor program support, and other related elements of logistics and program support. The estimated value is $325.8 million.

This proposed sale will support the foreign policy and national security of the United States by helping to improve the defense capabilities and capacity of a major non-NATO ally, which is an important force for political stability and economic progress in North Africa. This potential sale will provide additional opportunities for bilateral engagements and further strengthen the bilateral relationship between the United States and Tunisia.

The proposed sale will improve Tunisia's ability to meet current and future threats by increasing their capability and capacity to counter-terrorism and other violent extremist organization threats. The AT-6 platform will bolster their capability to respond to and engage threats in multiple areas across the country. Additionally, the procurement of the AT-6 aircraft strengthens interoperability between Tunisia, regional allies, and the United States. Tunisia will have no difficulty absorbing this aircraft into its armed forces.

The proposed sale of this equipment and support will not alter the basic military balance in the region.

The prime contractor will be Textron Aviation Defense LLC, Wichita, Kansas. There are no known offset agreements proposed with this potential sale. However, the purchaser typically requests offsets. Any offset agreement will be defined in negotiations between the purchaser and the contractor.

Implementation of this proposed sale will require the assignment of two (2) U.S. contractor logistics representatives to Tunisia.

There will be no adverse impact on U.S. defense readiness as a result of this proposed sale.

Transmittal No. 19-71

Notice of Proposed Issuance of Letter of Offer Pursuant to Section 36(b)(1) of the Arms Export Control Act

Annex

Item No. vii

(vii) Sensitivity of Technology:

1. The AT-6 Wolverine is a Beechcraft light attack, armed reconnaissance and irregular warfare and counterinsurgency mission aircraft. With a single engine PT6A-68D Pratt & Whitney engine and Lockheed Martin A-10C mission computer and plug and-play weapons management system with Seek Eagle certification, the AT-6 Wolverine can fire laser-guided rockets and deliver general purpose and inertially-aided munitions.

2. GBU-12 is a 5001b Mk-82 General Purpose (GP) bomb body fitted with the MXU-650 AFG, and MAU-209C/B or MAU-168L/B Computer Control Group (CCG) to guide to its laser designated target. The GBU-12 is a maneuverable, free-fall Laser Guided Bomb (LGB) that guides to a spot of laser energy reflected off of the target. Laser designation for the LGB can be provided by a variety of laser target markers or designators.

3. GBU-58 is a 2501b Mk-81 GP bomb body fitted with the MXU-1006 AFG, and MAU-209C/B or MAU-168L/B CCG to guide to its laser designated target. The GBU-58 is a maneuverable, free-fall LGB that guides to a spot of laser energy reflected from the target. Laser designation for the LGB can be provided by a variety of laser target markers or designators.

4. Mk-82 General Purpose (GP) bomb is a 500 pound, free-fall, unguided, low-drag weapon usually equipped with the mechanical M904 (nose) and M905 (tail) fuzes or the radar-proximity FMU-113 air-burst fuze. The Mk-82 is designed for soft, fragment sensitive targets and is not intended for hard targets or penetrations. The explosive filling is usually tritonal, though other compositions have sometimes been used.

5. BDU-50 (Mk-82 Inert) GP bomb is a 500 pound, free-fall, unguided, low-drag training weapon. There are no explosive elements with this bomb; it does not have a fuze and will not detonate when it hits the ground. It is used from flight training to give the pilot the insight into aircraft handling characteristics with the additional weight on the wing.

6. The Joint Programmable Fuze (JPF) FMU-152 is a multi-delay, multi-arm and proximity sensor compatible with general purpose blast, frag and hardened-target penetrator weapons. The JPF settings are cockpit selectable in flight when used with JDAM weapons.

7. Advanced Precision Kill Weapon System (APKWS) II All-Up-Round (AUR) is an air-to-ground weapon that consists of an APKWS II Guidance Section (GS), legacy 2.75 inch MK66 Mod 4 rocket motor, and legacy MK152 and MK435/436 warhead/fuze. APKWS II uses a semi-active laser seeker. The GS is installed between the rocket motor and warhead to create a guided rocket. The APKWS II may be procured as an independent component to be mated to appropriate 2.75-inch warheads/fuzes and rocket motors purchased separately, or may be purchased as an AUR.

8. If a technologically advanced adversary were to obtain knowledge of the specific hardware and software elements, the information could be used to develop countermeasures, which might reduce weapon system effectiveness or be used in the development of a system with similar or advanced capabilities.

9. A determination has been made that the recipient country can provide substantially the same degree of protection for the technology being released as the U.S. Government. This sale is necessary in furtherance of the U.S. foreign policy and national security objectives outlined in the Policy Justification.

10. All defense articles and services listed in this transmittal have been authorized for release and export to the Government of Tunisia.

[FR Doc. 2020-05398 Filed 3-16-20; 8:45 am]

BILLING CODE 5001-06-P